NATIONAL CREDIT UNION ADMINISTRATION

Sunshine Act; Notice of Agency Meeting

Time and Date: 11:30 a.m., Thursday, March 26, 2009.

Place: Board Room, 7th Floor, Room 7047, 1775 Duke Street, Alexandria, VA 22314-3428.

Status: Closed.

Matters to be Considered: 1. Consideration of supervisory activities. Closed pursuant to Exemptions (9)(A)(ii) and (B).

2. Consideration of Proposed Legislation. Closed pursuant to Exemptions (9)(A)(ii) and (B).

FOR FURTHER INFORMATION CONTACT: Mary Rupp, Secretary of the Board, Telephone: 703-518-6304.

Mary Rupp,
Board Secretary.

[FR Doc. E9-6738 Filed 3-23-09; 11:15 am]

BILLING CODE 7535-01-P